FEDERAL COMMUNICATIONS COMMISSION

47 CFR Parts 2, 20 and 68

[WT Docket No. 20-3; FCC 20-6; FRS 16479]

Standards for Hearing Aid-Compatible Handsets

AGENCY: Federal Communications Commission.

ACTION: Proposed rule.

SUMMARY: In this document, the Federal Communications Commission (“Commission”) proposes to adopt a new hearing aid compatibility technical standard and make related implementation revisions.

DATES: Interested parties may file comments on or before April 6, 2020, and reply comments on or April 20, 2020.

ADDRESSES: You may submit comments and reply comments on or before the dates indicated in the DATES section above. Comments may be filed using the Commission's Electronic Comment Filing System (ECFS). See Electronic Filing of Documents in Rulemaking Proceedings, 63 FR 24121 (1998). All filings related to this document shall refer to WT Docket No. 20-3.

Electronic Filers: Comments may be filed electronically using the internet by accessing the ECFS: http://apps.fcc.gov/ecfs/.

Paper Filers: Parties who choose to file by paper must file an original and one copy of each filing.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th Street SW, Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service First-Class, Express, and Priority mail must be addressed to 445 12th Street SW, Washington, DC 20554.

People with Disabilities. To request materials in accessible formats for people with disabilities (Braille, large print, electronic files, audio format), send an email to fcc504@fcc.gov or call the Consumer & Governmental Affairs Bureau at 202-418-0530 (voice), 202-418-0432 (TTY).

For additional information on the rulemaking process, see the SUPPLEMENTARY INFORMATION section of this document.

FOR FURTHER INFORMATION CONTACT: For further information on this proceeding, contact Eli Johnson, Eli.Johnson@fcc.gov, of the Wireless Telecommunications Bureau, Competition & Infrastructure Policy Division, (202) 418-1395. For information on the Paperwork Reduction Act proposed information collection requirements, contact Cathy Williams, Cathy.Williams@fcc.gov.

SUPPLEMENTARY INFORMATION: This is a summary of the Federal Communications Commission's Notice of Proposed Rulemaking (NPRM), in WT Docket No. 20-3; FCC 20-6, adopted January 30, 2020, and released on January 30, 2020. The document is available for download at https://www.fcc.gov/edocs. The complete text of this document is also available for inspection and copying during normal business hours in the FCC Reference Information Center, Portals II, 445 12th Street SW, Room CY-A257, Washington, DC 20554. To request materials in accessible formats for people with disabilities (Braille, large print, electronic files, audio format), send an email to FCC504@fcc.gov or call the Consumer & Governmental Affairs Bureau at 202-418-0530 (voice), 202-418-0432 (TTY).

Synopsis

I. NPRM

1. In this Notice of Proposed Rulemaking, the Commission proposes to incorporate by reference a new 2019 ANSI Standard (ANSI C63.19-2019, American National Standard Methods of Measurement of Compatibility Between Wireless Communication Devices and Hearing Aids, August 19, 2019 (2019 ANSI standard)) into its rules and to make it the exclusive testing standard for determining hearing aid compatibility after a two-year transition. The Commission's rules presently incorporate by reference the 2007 version of this standard (ANSI C63.19-2007, American National Standard Methods of Measurement of Compatibility Between Wireless Communication Devices and Hearing Aids, June 8, 2007 (2007 ANSI standard)) and the 2011 version of this standard (ANSI C63.19-2011, American National Standard Methods of Measurement of Compatibility Between Wireless Communication Devices and Hearing Aids, May 27, 2011 (2011 ANSI standard)). In addition, to incorporating by reference the 2019 ANSI standard, the Commission proposes to extend a volume control deadline until the start of the exclusive use of the 2019 ANSI Standard. Finally, the Commission proposes to remove unnecessary or superseded rule provisions and seeks comment on ways to simplify and update the hearing aid compatibility rules.

A. Codification of the 2019 ANSI Standard

2. Consistent with past practice, the Commission proposes to incorporate by reference the 2019 ANSI Standard into its rules as the exclusive technical standard for evaluating the hearing aid compatibility of wireless handsets. The Commission has long recognized that its hearing aid compatibility rules should evolve as revisions to ANSI standards are developed over time. To this end, the Commission has encouraged the ANSI Committee to periodically work with relevant stakeholders to review hearing aid compatibility issues and determine whether improvements to the standard are warranted. Accordingly, the Commission proposes to amend its rules to use the 2019 ANSI standard as the exclusive standard for determining hearing aid compatibility after the expiration of a two-year transition period. After the expiration of the transition period, new handsets models would have to be certified under this standard as hearing aid-compatible in order for manufacturers and service providers to use these new handsets to meet their handset deployment requirements.

3. The Commission anticipates that using the 2019 ANSI standard to determine whether a handset is hearing aid-compatible for purposes of its rules will serve the public interest by establishing standards for new devices and operations over additional frequency bands. The 2019 ANSI standard includes volume control metrics for the first time, and covers newer technologies and devices operating in the frequency range of 614 MHz to 6 GHz, as compared to the 2011 ANSI standard's frequency range of 698 MHz to 6 GHz. New testing methodologies in the 2019 ANSI standard should also improve the measurement of potential hearing aid interference. The new standard no longer uses the M/T category system, achieves harmonization with hearing aid standards that apply to other types of equipment, and changes several testing procedures meant to improve the consumer experience and reduce testing burdens.

4. If the Commission adopts the 2019 ANSI standard, it proposes to treat handsets operating over multiple frequency bands or air interfaces in the same manner as under its current rules. That is, a handset operating only in the ranges specified in the 2019 ANSI standard would be required to satisfy that standard for all frequency bands and air interfaces over which it operates. But if a handset also operates in frequency ranges not addressed by the 2019 ANSI standard, it would be considered hearing aid-compatible as long as it satisfies the 2019 ANSI Standard for those frequencies covered by the standard.

5. The Commission seeks comment on its proposal to adopt the 2019 ANSI standard. Do commenters agree that the new standard is consistent with the requirement that handsets “produce sound levels suitable for persons with hearing loss (including persons with and without hearing aids),” would improve the measurement of potential hearing aid interference, and would reduce the testing burden? Would adoption of the standard impose costs on manufacturers or service providers that are reasonable in light of its benefits?

6. The Commission recognizes that the 2019 ANSI standard does not cover frequencies above 6 GHz, as the higher millimeter wave frequencies were not commonly used in mobile handsets at the time the standard was being developed. The Commission therefore takes this opportunity to fulfill its statutory obligation to assess whether to continue to exempt handsets operating in frequencies above 6 GHz from the statutory hearing aid compatibility requirements. Section 710 of the Communications Act of 1934, as amended, exempts “telephones used with public mobile services” from the hearing aid compatibility requirements but directs the Commission to assess periodically the “appropriateness of continuing in effect” those exemptions. The Commission has partially revoked the statutory exemption for wireless handsets operating below 6 GHz, but has not had occasion to assess the exemption recently for handsets operating above 6 GHz. Accordingly, the Commission seeks comment generally on whether to continue to exempt handsets operating with frequencies above 6 GHz from the hearing aid compatibility requirements. What is the effect, if any, on hearing aid users from mobile handset operations in the mmW frequencies? What is the impact on individuals with hearing loss of excluding frequencies above 6 GHz from the compatibility requirements? As a practical matter, do higher frequencies pose the same interference concerns as the lower frequencies for hearing aids? Is compliance with the hearing aid compatibility standards technologically feasible for devices operating over 6 GHz? What would be the additional cost of testing in higher frequencies used by 5G? Would these additional costs limit innovation for handsets operating in the higher frequencies?

7. As indicated above, the 2019 ANSI standard revises how hearing aid compatibility is determined between wireless handsets and hearing aids and, for the first time, requires handsets to meet a volume control requirement in order to be considered hearing aid-compatible under that standard. The new standard specifies testing procedures for new technologies and devices operating in the frequency range of 614 MHz to 6 GHz and replaces the present numerical M/T rating system with a simple set of requirements and thresholds. As a result of these changes, the new standard will improve the experience of hearing aid users, including those who use cochlear implants, while at the same time reducing testing burdens. The standard is available for inspection at the Federal Communications Commission (FCC), 445 12th St. SW, Reference Information Center, Room CY-A257, Washington, DC 20554, (202) 418-0270. The standard is available for purchase from IEEE Operations Center, 445 Hoes Lane, Piscataway, NJ 08854-4141, by calling (732) 981-0060, or going to https://standards.ieee.org/.

B. Transition Period

8. In its filing, the ANSI Committee urges the Commission to adopt an “appropriate” transition period for implementing the new standard, but it does not recommend a particular length of time. The Commission agrees that manufacturers and service providers will likely require some transition period in order to design, manufacture, and market equipment that satisfies the 2019 ANSI Standard for hearing aid compatibility, and the Commission seeks comment on how much time is reasonably needed. The Commission proposes to phase out the 2011 ANSI standard over a transition period of two (2) years from the date the order adopting the 2019 ANSI standard is published in the Federal Register. The Commission used a two-year transition period before making the 2007 ANSI standard the exclusive testing standard for hearing aid compatibility and a two-year transition period before requiring the 2011 ANSI standard be used for meeting hearing aid compatibility requirements for newly covered frequency bands and air interfaces that were not covered by the 2007 ANSI standard. The Commission proposes a similar two-year transition period to appropriately balance the design, engineering, and marketing requirements of manufacturers and service providers with the needs of consumers with hearing loss.

9. In assessing its proposed two-year transition period, the Commission seeks comment on the steps manufacturers must take to implement the 2019 ANSI standard and their implications for the length of the transition period. What is the scope and timeline of the design changes necessary to incorporate the 2019 ANSI standard into future handsets? Commenters should consider manufacturers' product fabrication cycles and the practicality of testing multi-band or multi-mode handsets in the near-term under the 2019 ANSI standard. Are there multi-band or multi-mode handsets planned for near-term introduction that meet the hearing aid compatibility criteria for their operations covered under the 2011 ANSI standard but do not meet those criteria for newly covered operations or revised testing procedures under the 2019 ANSI standard? What, if any, obstacles do manufacturers anticipate facing? Given the clear public interest in moving quickly to make advanced technology available to those with hearing loss, the Commission urges any commenters proposing a transition of longer than two years to provide specific information about why more time is needed.

10. The Commission further seeks comment on the effect its proposed transition period likely will have on the Commission's ability to decide by 2024 whether to require 100% of covered handsets to be hearing aid-compatible. Does a two-year transition period encourage manufacturers to increase the number of hearing aid-compatible handsets they produce or help them eventually achieve 100% hearing aid-compatibility? Or would the design changes required by the 2019 ANSI standard negatively affect the ability of device manufacturers to meet any requirement the Commission may determine to impose that all covered handsets be hearing aid-compatible by a certain date in the future? Are there any issues related to the pending 100% proceeding that the Commission should consider with respect to making the 2019 ANSI standard the exclusive testing standard going forward? Commenters should fully explain any relationship between the adoption of the 2019 ANSI standard as the exclusive testing standard and the potential requirement for 100% of handsets to be hearing aid-compatible.

11. Although the Commission proposes to allow a two-year transition period before requiring exclusive use of the 2019 ANSI Standard, including its volume control requirements, it notes that manufacturers currently have a deadline in less than a year-and-a-half to ensure that wireless handsets are “equipped with volume control that produces sound levels suitable for persons with hearing loss (including persons with and without hearing aids).” The Commission proposes to extend this volume control deadline so that it coincides with the start of the exclusive use of the 2019 ANSI standard. The Commission seeks comment on this proposal. Would retaining disparate deadlines for volume control and exclusive use of the 2019 ANSI standard effectively require manufacturers to develop new handsets to meet the volume control deadline and then develop a new batch of handsets to satisfy the 2019 standard? Commenters should be specific about the costs and benefits of their proposed approach.

12. Consistent with past transitions to new standards, the Commission proposes permitting new handset models to be tested for certification using either the 2011 or 2019 ANSI standards during the transition period. Consistent with the 1988 Hearing Aid Compatibility Act and the current rules, the Commission proposes that all existing hearing aid compatibility certifications issued prior to and within the transition period, including certifications under the 2011 ANSI standard as well as any earlier versions of the standard, would remain valid. As a result, no existing handset models would need to be retested or recertified as hearing aid-compatible. The Commission seeks comment on this approach.

13. The Commission notes that the Commission's existing handset certification procedures do not permit a handset model to be tested and certified partly under one version of the ANSI standard and partly under another. The Commission has taken this approach because each ANSI standard has its own complete set of testing procedures and mixing these procedures will result in a meaningless outcome. Consistent with this long-established certification practice, the Commission proposes that manufacturers continue to be required to test a new handset model exclusively under either the 2011 ANSI standard or the 2019 ANSI standard during the transition period. After the end of the transition period, the Commission proposes that new handset models be required to satisfy fully the 2019 ANSI standard, including its volume control requirements, for all of the frequency bands covered by the standard to be considered hearing aid-compatible. The Commission seeks comment on this proposal.

C. Meeting Deployment Benchmarks

14. Subject to a de minimis exception, handset manufacturers and service providers must offer minimum numbers of hearing aid-compatible handset models for each covered air interface over which its handsets operate. Depending on the type and size of an entity and the point in time, manufacturers and providers will need to ensure that either 66% or 85% of their handset models are hearing aid-compatible. Under the 2011 ANSI standard, this means that a handset must be rated M3 or higher and T3 or higher for any given air interface. With respect to the 2019 ANSI standard, for the handset to be hearing aid-compatible over a covered air interface, the handset must meet the requirements for both acoustic and inductive coupling modes for that air interface, including the volume control requirements.

15. If the Commission adopts the 2019 ANSI standard going forward, it proposes to allow manufacturers and service providers to meet the requirement to offer minimum numbers of hearing aid-compatible handsets by counting the models certified under the 2019 ANSI standard and handset models already certified under earlier versions of the standard (i.e., the 2007 and 2011 versions of the standard) as long as those models are still being offered for sale. As more and more handset models become certified under the 2019 ANSI standard, the Commission expects that handset models certified under older versions of the ANSI standard will cease being offered for sale and will be replaced with new models certified under the 2019 ANSI standard. Manufacturers and national wireless providers are already required to ensure that 66% of the handsets they offer are hearing aid-compatible, and the Commission expects handsets meeting the 2019 ANSI standard to be common within a few years after the end of the transition period. The Commission also notes that, while manufacturers would not be required to certify their new handset models under the 2019 ANSI standard during the transition period in order to meet their minimum deployment benchmarks, they may find using the 2019 standard advantageous from a marketing perspective. The Commission seeks comment on this proposal. What are the costs and benefits to device manufacturers, service providers, and consumers with hearing loss of allowing handsets certified under previous ANSI standards to count toward the minimum number of hearing aid-compatible handsets that must be offered? Are there reasons to impose new requirements on manufacturers and service providers to offer minimum numbers of handsets certified to comply with the 2019 ANSI standard?

D. Labeling Requirements

16. The Commission proposes to update and modernize its hearing aid compatibility labeling requirements in order to eliminate outdated provisions and to streamline and clarify these requirements. The 1988 Hearing Aid Compatibility Act provides that the Commission “shall establish . . . requirements for the labeling of packaging materials . . . to provide adequate information to consumers on the compatibility between telephones and hearing aids.” This Congressional directive requires us to ensure that consumers have sufficient information to make an informed decision when selecting hearing aid-compatible handsets. Given this directive, the Commission proposes to simplify its current hearing aid compatibility labeling requirements so that consumers will have the easily understandable information they need in order to understand and evaluate the hearing aid compatibility of a particular handset. In making this proposal, the Commission is mindful that its labeling requirements must not only cover new handset models certified under the 2019 ANSI standard but also cover handset models that are still being offered for sale and that have been certified as hearing aid-compatible under older versions of the ANSI standard.

17. The Commission's current labeling requirements are composed of four parts. The first requires manufacturers and service providers to ensure that a label on the exterior packaging of a wireless handset indicates the M- and T-rating of the handset model under the 2011 ANSI Standard. Under the 2019 ANSI Standard, however, this information would no longer be relevant because the new standard does not use a rating system. The second part requires manufacturers and service providers to display information on the handset's volume control capabilities. The third part establishes labeling requirements related to handsets that are considered hearing aid-compatible with respect to some, but not all of their frequency bands and air interfaces. The fourth part imposes disclosure requirements relating to handsets that allow users to reduce the maximum power for GSM operation in the 1900 MHz band. This power down exception was eliminated when the Commission adopted the 2011 ANSI standard as the exclusive testing standard.

18. With the objectives of modernizing and streamlining its rules, the Commission proposes to reorganize its existing hearing aid compatibility labeling requirements by requiring the following:

(1) For all handset models certified to be hearing aid-compatible, manufacturers and service providers shall disclose to consumers through clear and effective means (e.g., inclusion of packaging materials, user manuals, call-out cards or other physical media):

(i) That the handset is hearing aid-compatible (including placing this information on the handset's packaging label);

(ii) The air interfaces on the handset that are not hearing aid-compatible, if applicable, or have been determined to be hearing aid-compatible under special testing circumstances;

(iii) The ANSI standard that was used to determine the hearing aid compatibility of the handset model's air interfaces; and

(iv) If using the 2011 ANSI standard or earlier, the lowest hearing aid compatibility rating assigned to any of the air interfaces.

(2) Any handset model certified to be hearing aid-compatible but with one or more air interfaces that are not hearing aid-compatible must include the following language:

This phone has been tested and certified for use with hearing aids for some of the wireless technologies that it uses. However, there may be some newer wireless technologies used in this phone that have not been tested yet for use with hearing aids. It is important to try the different features of this phone thoroughly and in different locations, using your hearing aid or cochlear implant, to determine if you hear any interfering noise. Consult your service provider or the manufacturer of this phone for information on hearing aid compatibility. If you have questions about return or exchange policies, consult your service provider or phone retailer.

(3) For those handset models that have been certified as having met the 2019 ANSI standard's volume control requirement, manufacturers and service providers must clearly display information indicating the handset's amplification capabilities, including numerical metrics or ratings for handset volume control, on the packaging material of the handset and must also provide an explanation of those capabilities in the handset's user manual or as an insert in the packaging material for the handset. The volume control metrics or ratings displayed shall be the lowest metrics or ratings assigned to the handset for any air interface or frequency band.

19. The Commission proposes to modify its current volume control labeling requirement to delete the pending volume control compliance date and the cross reference currently contained in the rule, and to make implementation of the rule easier for manufacturers and service providers to follow. Given that its current labeling requirement was adopted prior to the volume control technical standard being released as part of the 2019 ANSI Standard, the Commission believes that these changes will provide clarity and aid compliance. The Commission seeks comment on whether its revised volume control labeling requirement will provide consumers with sufficient information to make an informed decision about a handset's volume control capabilities. If more information is required, the Commission seeks comment on what additional information is needed, why, and where that information should be displayed (e.g., label, package insert, or user manual).

20. More generally the Commission seeks comment on whether its proposed revised labeling and disclosure requirements are straightforward and conspicuous enough for consumers to understand the hearing aid compatibility of a particular handset model. Does its proposal take into consideration the information that a consumer needs to know to make an informed decision both with respect to handset models certified under the 2019 ANSI standard and those that are still being offered for sale that have been certified under older versions of the standard? Is there any additional information that consumers should be informed of when considering hearing aid-compatible handsets? Consistent with the existing labeling rule, the Commission's proposal requires manufacturers and service providers to disclose on a handset's packaging label if the handset is hearing aid-compatible and additional information on the handset's packaging label if the handset meets the volume control requirement. Further, consistent with the existing labeling requirement, the Commission's proposal requires manufacturers and service providers to disclose other hearing aid compatibility information through clear and effective means such as packaging labels, user manuals and instructions, call-out cards or other appropriate media. Are these methods of disclosure sufficient to meet consumer needs? What, if any, additional information should be required and where should this information be displayed? The Commission also seeks comment on whether it should continue to require service providers to make handsets available for in-store testing by consumers and whether a transition period is needed before its proposed new labeling requirements become effective.

E. Other Rule Changes

21. Section 20.19. The Commission seeks comment on whether to revise certain other provisions in section 20.19 to streamline and update its hearing aid compatibility requirements.

21. With the rapid pace of handset development and the number of new handsets that come to market each year, the Commission proposes to delete the “refresh” and “differing levels of functionality” requirements contained in the Commission's hearing aid compatibility rules. These requirements require manufacturers and service providers to “refresh” and offer a range of hearing aid-compatible handset models that include a mix of new and existing models. The Commission seeks comment about whether these requirements remain necessary as more and more handsets are required to be hearing aid-compatible. The Commission's current handset deployment benchmarks require 66% of offered handset models to be hearing aid-compatible and these benchmarks increase to 85% in the near future. Given that these benchmarks require a significant majority of handsets to be hearing aid-compatible, are the “refresh” and “differing levels of functionality” requirements still necessary to ensure consumers have a wide variety of hearing aid-compatible handsets from which to choose? Have the Commission's changes to the handset deployment benchmarks rendered these requirements unnecessary? Commenters should address the costs and benefits to manufacturers, service providers, and consumers with hearing loss if the Commission eliminates these requirements. The Commission further proposes to make a corresponding change to section 20.19(h) and delete the requirement that service providers make available on their websites information about the “differing levels of functionality” of each handset they offer. The Commission seeks comment on its proposal.

23. The Commission proposes to revise the date that service providers must file certifications of compliance with the Commission's hearing aid compatibility provisions and the date that manufacturers must file compliance reports. Presently, service provider certifications are due January 15 each year and manufacturer reports are due July 15 each year. The Commission proposes to move these dates to January 31 and July 31, respectively. Under this approach, the filing window for service providers would open the first business day in January and for manufacturers the first business day in July. This change would ensure that service provider certifications and manufacturer reports are “up-to-date as of the last day of the calendar month preceding the due date of each report and certification.” The Commission seeks comment on this change.

24. Finally, throughout section 20.19, the Commission proposes to delete references to implementation dates and benchmarks that have already passed. Eliminating these references will simplify the rules and make them easier to read and understand. The Commission also propose deleting all references to hearing aid compatibility requirements and deployment benchmarks that applied to handsets certified under the 2007 ANSI standard, except for labeling and disclosure requirements related to these handsets. Because all certifications under the 2007 ANSI standard remain valid, current language in the rule describing the requirements and benchmarks that apply to these handsets appears unnecessary. To the extent handsets certified under the 2007 ANSI standard are still being offered for sale, however, these handsets must be labeled in a manner consistent with the Commission's labeling and disclosure requirements. The Commission also seek comment on any other ministerial changes to section 20.19 that it should consider as it updates Commission rules.

25. Section 68.300. The Commission proposes a technical correction of section 68.300 of the Commission's rules, which requires labeling of hearing aid-compatible telephones. When the Commission amended part 68 of the rules in 2000 to remove various provisions pertaining to registration of terminal equipment connected to the public switched telephone network (PSTN), it appears that a definition of the term “permanently affixed,” which is relevant to the labeling requirement, was inadvertently deleted. The Commission proposes to restore an updated version of the definition.

26. Under section 68.300(b) of the rules, if a telephone that is approved for connection to the PSTN is hearing aid-compatible, the letters “HAC” must be permanently affixed to the telephone. Prior to the 2000 amendments, this provision was designated as paragraph (c) of section 68.300, and it referenced a definition of “permanently affixed” contained in what was then paragraph (b). In 2000, the Commission deleted the existing paragraph (b)—including the definition of “permanently affixed”—and renumbered paragraph (c) as paragraph (b). As a result, section 68.300(b) of the rules now refers to a definition that is no longer present in the rule.

27. Subsequently, in 2017, the Commission adopted hearing aid compatibility rules for telephonic equipment used with advanced communications services (ACS telephonic CPE). These rules include an updated definition of “permanently affixed,” applicable to the labeling of such equipment as hearing aid-compatible. To ensure that hearing aid compatibility labeling requirements are consistent for both PSTN telephones and advanced telephonic CPE, the Commission proposes to amend section 68.300(b) to include the same definition currently provided in section 68.502(a), as follows:

“Permanently affixed” means that the label is etched, engraved, stamped, silkscreened, indelibly printed, or otherwise permanently marked on a permanently attached part of the equipment or on a nameplate of metal, plastic, or other material fastened to the equipment by welding, riveting, or a permanent adhesive. The label must be designed to last the expected lifetime of the equipment in the environment in which the equipment may be operated and must not be readily detachable.

28. Further, the Commission proposes to delete from the paragraph the stated requirement date of April 1, 1997, given that the starting date has passed. Because there are only minor differences between the new and old definitions of “permanently affixed,” the Commission does not anticipate that these proposed changes will have any significant effect on the current practices of hearing aid compatibility manufacturers or equipment providers. Therefore, the Commission proposes to make this amendment effective in the normal course, 30 days after Federal Register publication of the amended rule. The Commission seeks comment on these proposed technical corrections and effective date.

II. Procedural Matters

Initial Regulatory Flexibility Analysis

29. As required by the Regulatory Flexibility Act (RFA), the Commission has prepared an Initial Regulatory Flexibility Analysis (IRFA) of the possible significant economic impact on a substantial number of small entities by the policies and rules proposed in the Notice of Proposed Rulemaking (NPRM). The IRFA is set forth in Appendix B. Written public comments are requested on this IRFA. Comments must be identified as responses to the IRFA and must be filed by the deadlines for comments provided in the NPRM. The Commission's Consumer and Governmental Affairs Bureau, Reference Information Center, will send a copy of the NPRM, including this IRFA, to the Chief Counsel for Advocacy of the Small Business Administration (SBA). In addition, the NPRM and IRFA (or summaries thereof) will be published in the Federal Register.

Ex Parte Presentations

30. This proceeding shall be treated as a “permit-but-disclose” proceeding in accordance with the Commission's ex parte rules. 47 CFR 1.1200 et. seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by Rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Paperwork Reduction Act

31. This document contains proposed new or modified information collection requirements. The Commission, as part of its continuing effort to reduce paperwork burdens, invites the general public and the Office of Management and Budget (OMB) to comment on the information collection requirements in this document, subject to the Paperwork Reduction Act of 1995 (PRA), Public Law 104-13. In addition, pursuant to the Small Business Paperwork Relief Act of 2002, Public Law 107-198, see 44 U.S.C. 3506(c)(4), the Commission seeks specific comment on how it might further reduce the information collection burden for small business concerns with fewer than 25 employees.

III. Ordering Clauses

Accordingly, it is ordered, pursuant to sections 4(i), 303(r), and 710 of the Communications Act of 1934, as amended, 47 U.S.C. 154(i), 303(r), 610, this Notice of Proposed Rulemaking is hereby adopted.

It is further ordered that pursuant to applicable procedures set forth in sections 1.415 and 1.419 of the Commission's Rules, 47 CFR 1.415, 1.419, interested parties may file comments on this Notice of Proposed Rulemaking on or before April 6, 2020, and reply comments on or before April 20, 2020.

It is further ordered that WT Docket Nos. 07-250 and 10-254 are hereby terminated.

It is further ordered that the Commission's Consumer and Governmental Affairs Bureau, Reference Information Center, shall send a copy of the Notice of Proposed Rulemaking, including the Initial Regulatory Flexibility Analysis, to the Chief Counsel for Advocacy of the Small Business Administration.

List of Subjects in 47 CFR Parts 2, 20 and 68

Incorporation by reference, Individuals with disabilities, Telecommunications, Telephones.

Federal Communications Commission.
Marlene Dortch,
Secretary.

Proposed Rules

For the reasons discussed in the preamble, the Federal Communications Commission proposes to amend title 47 parts 2, 20, and 68 of the Code of Federal Regulations as follows:

PART 2—FREQUENCY ALLOCATIONS AND RADIO TREATY MATTERS; GENERAL REULES AND REGULATIONS

1. The authority citation for part 2 continues to read as follows:

Authority: 47 U.S.C. 154, 302a, 303, and 336, unless otherwise noted.

2. Amend § 2.1033 by revising paragraph (d) to read as follows:

§ 2.1033 Application for certification.

* * * * *

(d) Applications for certification of equipment operating under part 20 of this chapter, that a manufacturer is seeking to certify as hearing aid-compatible, as set forth in § 20.19 of this chapter, shall include a statement indicating compliance with the test requirements of § 20.19 of this chapter. The manufacturer of the equipment shall be responsible for maintaining the test results.

* * * * *

PART 20—COMMERCIAL MOBILE RADIO SERVICES

3. The authority citation for part 20 is revised to read as follows:

Authority: 47 U.S.C. 151, 152(a), 154(i), 155, 157, 160, 201, 214, 222, 251(e), 301, 302, 303, 303(b), 303(r), 307, 307(a), 309, 309(j)(3), 316, 316(a), 332, 610, 615, 615a, 615b, 615c, unless otherwise noted.

4. Amend § 20.19 by revising paragraphs (a) through (l) to read as follows:

§ 20.19 Hearing aid-compatible mobile handsets.

(a) Definitions. For purposes of this section:

2007 ANSI standard refers to the technical standard for hearing aid compatibility applicable to frequencies between 800 MHz and 3 GHz as set forth in the standards document “American National Standard Methods of Measurement of Compatibility Between Wireless Communication Devices and Hearing Aids,” ANSI C63.19-2007 (2007 ANSI standard).

2011 ANSI standard refers to the technical standard for hearing aid compatibility applicable to frequencies between 698 MHz and 6 GHz as set forth in the standards document “American National Standard Methods of Measurement of Compatibility Between Wireless Communication Devices and Hearing Aids,” ANSI C63.19-2011 (2011 ANSI standard).

2019 ANSI standard refers to the technical standard for hearing aid compatibility applicable to frequencies between 614 MHz and 6 GHz as set forth in the standards document “American National Standard Methods of Measurement of Compatibility Between Wireless Communication Devices and Hearing Aids,” ANSI C63.19-2019 (2019 ANSI standard).

ANSI standard refers to the 2007, 2011, and 2019 ANSI standards as a group.

Any version of the ANSI standard previous to the 2019 ANSI standard refers to the 2007 and 2011 ANSI standards.

Digital mobile service refers to a terrestrial mobile service that enables two-way real-time voice communications among members of the public or a substantial portion of the public, including both interconnected and non-interconnected VoIP services, to the extent that such service is provided over frequencies specified in the 2011 ANSI standard or the 2019 ANSI standard.

Handset refers to a device used in delivery of digital mobile service in the United States that contains a built-in speaker and is typically held to the ear in any of its ordinary uses.

Manufacturer refers to a manufacturer of handsets that are used in delivery of digital mobile service, as defined in this section, in the United States.

Model refers to a wireless handset device that a manufacturer has designated as a distinct device model, consistent with its own marketing practices. However, if a manufacturer assigns different model device designations solely to distinguish units sold to different carriers, or to signify other distinctions that do not relate to either form, features, or capabilities, such designations shall not count as distinct models for purposes of this section.

Service provider refers to a provider of digital mobile service, as defined in this section, in the United States.

Tier I carrier refers to a CMRS provider that offers such service nationwide.

(b) Hearing aid compatibility; technical standards.—(1) Handset compatibility on or after [DATE TWO YEARS AFTER EFFECTIVE DATE OF FINAL RULE]. In order to satisfy a manufacturer or service provider's obligations under paragraphs (c) and (d) of this section, a handset submitted for equipment certification or for a permissive change relating to hearing aid compatibility on or after [the transition date] must meet the 2019 ANSI standard.

(2) Handset compatibility before [DATE TWO YEARS AFTER EFFECTIVE DATE OF FINAL RULE]. In order to satisfy a manufacturer or service provider's obligations under paragraphs (c) and (d) of this section, a handset submitted for equipment certification or for a permissive change relating to hearing aid compatibility before [the transition date] must meet either:

(i) At a minimum, the M3 and T3 ratings associated with the 2011 ANSI standard; or

(ii) The 2019 ANSI standard.

(3) Handsets operating over multiple frequency bands or air interfaces. (i) Beginning on [DATE TWO YEARS AFTER EFFECTIVE DATE OF FINAL RULE], a handset that uses only the frequencies specified in the 2019 ANSI standard is hearing aid-compatible if it meets the 2019 ANSI standard for all frequency bands and air interfaces over which it operates, and the handset has been certified as compliant with the test requirements for the 2019 ANSI standard pursuant to § 2.1033(d) of this chapter. A handset that incorporates operations outside the frequencies specified in the 2019 ANSI standard is hearing aid-compatible if the handset otherwise satisfies the requirements of this paragraph (b).

(ii) Before [DATE TWO YEARS AFTER EFFECTIVE DATE OF FINAL RULE] a handset that uses only the frequencies specified in the 2011 ANSI standard is hearing aid-compatible with regard to radio frequency interference or inductive coupling if it meets the 2011 ANSI standard for all frequency bands and air interfaces over which it operates, and the handset has been certified as compliant with the test requirements for the 2011 ANSI standard pursuant to § 2.1033(d) of this chapter. Before [DATE TWO YEARS AFTER EFFECTIVE DATE OF FINAL RULE], a handset that incorporates operations outside the frequencies specified in the 2011 ANSI standard is hearing aid-compatible if the handset otherwise satisfies the requirements of this paragraph (b).

(4) All factual questions of whether a handset meets the technical standard(s) of this paragraph shall be referred for resolution to the Chief, Office of Engineering and Technology, Federal Communications Commission, 445 12th Street SW, Washington, DC 20554.

(5) A handset certified under any version of the ANSI standard previous to the 2019 ANSI standard remains hearing aid-compatible for purposes of this section.

(c) Phase-in of hearing aid-compatibility requirements. The following applies to each manufacturer and service provider that offers handsets used to deliver the services specified in paragraph (a) of this section and that does not fall within the de minimis exception set forth in paragraph (e) of this section.

(1) Manufacturers—Number of hearing aid-compatible handset models offered. For each digital air interface for which it offers handsets in the United States or imported for use in the United States, each manufacturer must offer hearing aid compatible handsets as follows:

(i) Beginning October 3, 2018, at least sixty-six (66) percent of those handset models (rounded down to the nearest whole number) must be hearing aid-compatible under paragraph (b) of this section.

(ii) Beginning October 4, 2021, at least eighty-five (85) percent of those handset models (rounded down to the nearest whole number) must be hearing aid-compatible under paragraph (b) of this section.

(2) Tier I carriers. For each digital air interface for which it offers handsets to customers, each Tier I carrier must:

(i) Beginning April 3, 2019, ensure that at least sixty-six (66) percent of the handset models it offers are hearing aid-compatible under paragraph (b) of this section, calculated based on the total number of unique handset models the carrier offers nationwide.

(ii) Beginning April 4, 2022, ensure that at least eighty-five (85) percent of the handset models it offers are hearing aid-compatible under paragraph (b) of this section, calculated based on the total number of unique handset models the carrier offers nationwide.

(3) Service providers other than Tier I carriers. For each digital air interface for which it offers handsets to customers, each service provider other than a Tier I carrier must:

(i) Beginning April 3, 2020, ensure that at least sixty-six (66) percent of the handset models it offers are hearing aid-compatible under paragraph (b) of this section, calculated based on the total number of unique handset models the carrier offers.

(ii) Beginning April 3, 2023, ensure that at least eighty-five (85) percent of the handset models it offers are hearing aid-compatible under paragraph (b) of this section, calculated based on the total number of unique handset models the carrier offers.

(4) In-store testing. All service providers must make available for consumers to test, in each retail store owned or operated by the service provider, all of its handset models that are hearing aid-compatible under paragraph (b) of this section.

(d) [Reserved]

(e) De minimis exception. (1)(i) Manufacturers or service providers that offer two or fewer handsets in an air interface in the United States are exempt from the requirements of this section in connection with that air interface, except with regard to the reporting and certification requirements in paragraph (i) of this section. Service providers that obtain handsets only from manufacturers that offer two or fewer handset models in an air interface in the United States are likewise exempt from the requirements of this section other than paragraph (i) of this section in connection with that air interface.

(ii) Notwithstanding paragraph (e)(1)(i) of this section, manufacturers that have had more than 750 employees for at least two years and service providers that have had more than 1500 employees for at least two years, and that have been offering handsets over an air interface for at least two years, that offer one or two handsets in that air interface in the United States must offer at least one handset model that is hearing aid-compatible under paragraph (b) of this section in that air interface. Service providers that obtain handsets only from manufacturers that offer one or two handset models in an air interface in the United States, and that have had more than 750 employees for at least two years and have offered handsets over that air interface for at least two years, are required to offer at least one handset model in that air interface that is hearing aid-compatible under paragraph (b) of this section. For purposes of this paragraph, employees of a parent, subsidiary, or affiliate company under common ownership or control with a manufacturer or service provider are considered employees of the manufacturer or service provider. Manufacturers and service providers covered by this paragraph must also comply with all other requirements of this section.

(2) Manufacturers or service providers that offer three handset models in an air interface must offer at least one handset model that is hearing aid-compatible under paragraph (b) of this section in that air interface. Service providers that obtain handsets only from manufacturers that offer three handset models in an air interface in the United States are required to offer at least one handset model in that air interface that is hearing aid-compatible under paragraph (b) of this section.

(3) Manufacturers that offer four or five handset models in an air interface must offer at least two handset models that are hearing aid-compatible under paragraph (b) of this section in that air interface. Tier I carriers who offer four handset models in an air interface must offer at least two handsets that are hearing aid-compatible under paragraph (b) of this section in that air interface and Tier I carriers who offer five handset models in an air interface must offer at least three handsets that are hearing aid-compatible under paragraph (b) of this section in that air interface. Service providers, other than Tier I carriers, who offer four handset models in an air interface must offer at least two handset models that are hearing aid-compatible under paragraph (b) of this section in that air interface and service providers, other than Tier I carriers, who offer five handset models in an air interface must offer at least three handsets that are hearing aid-compatible under paragraph (b) of this section in that air interface.

(f) Labeling and disclosure requirements for hearing aid-compatible handsets. (1) For all handset models certified to be hearing aid-compatible, manufacturers and service providers shall disclose to consumers through clear and effective means (e.g., inclusion of packaging materials, user manuals, call-out cards or other physical media):

(i) That the handset is hearing aid-compatible (including placing this information on the handset's packaging label);

(ii) The air interfaces on the handset that are not hearing aid-compatible, if applicable, or have been determined to be hearing aid-compatible under special testing circumstances;

(iii) The ANSI standard that was used to determine the hearing aid compatibility of the handset model's air interfaces; and

(iv) If using the 2007 ANSI standard or the 2011 ANSI standard, the lowest hearing aid compatibility rating assigned to any of the air interfaces.

(2) Any handset model certified to be hearing aid-compatible but with one or more air interfaces that are not hearing aid-compatible must include the following language:

This phone has been tested and certified for use with hearing aids for some of the wireless technologies that it uses. However, there may be some newer wireless technologies used in this phone that have not been tested yet for use with hearing aids. It is important to try the different features of this phone thoroughly and in different locations, using your hearing aid or cochlear implant, to determine if you hear any interfering noise. Consult your service provider or the manufacturer of this phone for information on hearing aid compatibility. If you have questions about return or exchange policies, consult your service provider or phone retailer.

(3) For those handset models that have been certified as having met the 2019 ANSI standard's volume control requirement, manufacturers and service providers must clearly display information indicating the handset's amplification capabilities, including numerical metrics or ratings for handset volume control, on the packaging material of the handset and an explanation of those capabilities in the handset's user manual or as an insert in the packaging material for the handset. The volume control metrics or ratings displayed shall be the lowest metrics or ratings assigned to the handset for any air interface or frequency band.

(g) Model designation requirements. Where a manufacturer has made physical changes to a handset that result in a change in the hearing aid compatibility rating under the 2011 ANSI standard, the altered handset must be given a model designation distinct from that of the handset prior to its alteration.

(h) Website and record retention requirements. (1) Each manufacturer and service provider that operates a publicly-accessible website must make available on its website a list of all hearing aid-compatible models currently offered, the ANSI standard used to evaluate hearing aid compatibility, the ratings of those models under the relevant ANSI standard, if applicable, and an explanation of the rating system. Each service provider must also include on its website: A list of all non-hearing aid-compatible models currently offered, as well as a link to the current FCC web page containing information about the wireless hearing aid compatibility rules and service providers' obligations. Each service provider must also include the marketing model name/number(s) and FCC ID number of each hearing aid-compatible and non-hearing aid-compatible model currently offered.

(2) Service providers must maintain on their website either:

(i) A link to a third-party website as designated by the Commission or Wireless Telecommunications Bureau with information regarding hearing aid-compatible and non-hearing aid-compatible handset models; or

(ii) A clearly marked list of hearing aid-compatible handset models that are no longer offered if the calendar month/year that model was last offered is within 24 months of the current calendar month/year and was last offered in January 2018 or later along with the information listed in paragraph (h)(1) of this section for each hearing aid-compatible handset.

(3) If the Wireless Telecommunications Bureau determines that the third-party website has been eliminated or is not updated in a timely manner, it may select another website or require service providers to comply with paragraph (h)(2)(ii) of this section.

(4) The information on the website must be updated within 30 days of any relevant changes, and any website pages containing information so updated must indicate the day on which the update occurred.

(5) Service providers must maintain internal records including the ratings, if applicable, of all hearing aid-compatible and non-hearing aid-compatible models no longer offered (if the calendar month/year that model was last offered is within 24 months of the current calendar month/year and was last offered in January 2018 or later); for models no longer offered (if the calendar month/year that model was last offered is within 24 months of the current calendar month/year), the calendar months and years each hearing aid-compatible and non-hearing aid-compatible model was first and last offered; and the marketing model name/number(s) and FCC ID number of each hearing aid-compatible and non-hearing aid-compatible model no longer offered (if the calendar month/year that model was last offered is within 24 months of the current calendar month/year and was last offered in January 2018 or later).

(i) Reporting requirements.—(1) Reporting and certification dates. Manufacturers shall submit Form 655 reports on efforts toward compliance with the requirements of this section on an annual basis by July 31 of each year. Service providers shall submit Form 855 certifications on their compliance with the requirements of this section by January 31 of each year. Information in each report and certification must be up-to-date as of the last day of the calendar month preceding the due date of each report and certification.

(2) Content of manufacturer reports. Reports filed by manufacturers must include:

(i) Handset models tested, since the most recent report, for compliance with the applicable hearing aid compatibility technical ratings, if applicable;

(ii) Compliant handset models offered to service providers since the most recent report, identifying each model by marketing model name/number(s) and FCC ID number;

(iii) For each compliant model, the air interface(s) and frequency band(s) over which it operates, the hearing aid compatibility ratings for each frequency band and air interface under the ANSI standard (if applicable), the ANSI standard version used, and the months in which the model was available to service providers since the most recent report;

(iv) Non-compliant models offered to service providers since the most recent report, identifying each model by marketing model name/number(s) and FCC ID number;

(v) For each non-compliant model, the air interface(s) over which it operates and the months in which the model was available to service providers since the most recent report;

(vi) Total numbers of compliant and non-compliant models offered to service providers for each air interface as of the time of the report;

(vii) Any instance, as of the date of the report or since the most recent report, in which multiple compliant or non-compliant devices were marketed under separate model name/numbers but constitute a single model for purposes of the hearing aid compatibility rules, identifying each device by marketing model name/number and FCC ID number;

(viii) Status of product labeling;

(ix) Outreach efforts; and

(x) If the manufacturer maintains a public website, the website address of the page(s) containing the information regarding hearing aid-compatible handset models required by paragraph (h) of this section.

(3) Content of service provider certifications. Certifications filed by service providers must include:

(i) The name of the signing executive and contact information;

(ii) The company(ies) covered by the certification;

(iii) The FCC Registration Number (FRN);

(iv) If the service provider is subject to paragraph (h) of this section, the website address of the page(s) containing the required information regarding handset models;

(v) The percentage of handsets offered that are hearing aid-compatible (providers will derive this percentage by determining the number of hearing aid-compatible handsets offered across all air interfaces during the year divided by the total number of handsets offered during the year); and

(vi) The following language:

I am a knowledgeable executive [of company x] regarding compliance with the Federal Communications Commission's wireless hearing aid compatibility requirements at a wireless service provider covered by those requirements.

I certify that the provider was [(in full compliance/not in full compliance)] [choose one] at all times during the applicable time period with the Commission's wireless hearing aid compatibility deployment benchmarks and all other relevant wireless hearing aid compatibility requirements.

The company represents and warrants, and I certify by this declaration under penalty of perjury pursuant to 47 CFR 1.16 that the above certification is consistent with 47 CFR 1.17, which requires truthful and accurate statements to the Commission. The company also acknowledges that false statements and misrepresentations to the Commission are punishable under Title 18 of the U.S. Code and may subject it to enforcement action pursuant to Sections 501 and 503 of the Act.

(vii) If the company selected that it was not in full compliance, an explanation of which wireless hearing aid compatibility requirements it was not in compliance with, when the non-compliance began and (if applicable) ended with respect to each requirement.

(4) Format. The Wireless Telecommunications Bureau is delegated authority to approve or prescribe forms, formats, and methods for submission of the reports and certifications in addition to or instead of those required by this section. Any format that the Bureau may approve or prescribe shall be made available on the Bureau's website.

(j) Enforcement. Enforcement of this section is hereby delegated to those states that adopt this section and provide for enforcement. The procedures followed by a state to enforce this section shall provide a 30-day period after a complaint is filed, during which time state personnel shall attempt to resolve a dispute on an informal basis. If a state has not adopted or incorporated this section, or failed to act within six (6) months from the filing of a complaint with the state public utility commission, the Commission will accept such complaints. A written notification to the complainant that the state believes action is unwarranted is not a failure to act. The procedures set forth in part 68, subpart E of this chapter are to be followed.

(k) Delegation of rulemaking authority. (1) The Chief of the Wireless Telecommunications Bureau and the Chief of the Office of Engineering and Technology are delegated authority, by notice-and-comment rulemaking, to issue an order amending this section to the extent necessary to adopt technical standards for additional frequency bands and/or air interfaces upon the establishment of such standards by ANSI Accredited Standards Committee C63®, provided that the standards do not impose with respect to such frequency bands or air interfaces materially greater obligations than those imposed on other services subject to this section. Any new obligations on manufacturers and Tier I carriers pursuant to paragraphs (c) through (i) of this section as a result of such standards shall become effective no less than one year after release of the order adopting such standards and any new obligations on other service providers shall become effective no less than 15 months after the release of such order, except that any new obligations on manufacturers and service providers subject to paragraph (e)(1)(ii) of this section shall become effective no less than two years after the release of such order.

(2) The Chief of the Wireless Telecommunications Bureau and the Chief of the Office of Engineering and Technology are delegated authority, by notice-and-comment rulemaking if required by statute or otherwise in the public interest, to issue an order amending this section to the extent necessary to approve any version of the technical standards for radio frequency interference, inductive coupling, or volume control adopted subsequently to the 2007 ANSI standard for use in determining whether a wireless handset meets the appropriate rating over frequency bands and air interfaces for which technical standards have previously been adopted either by the Commission or pursuant to paragraph (k)(1) of this section. This delegation is limited to the approval of changes to the technical standards that do not raise major compliance issues. Further, by such approvals, the Chiefs may only permit, and not require, the use of such subsequent versions of the technical standards to establish hearing aid compatibility.

(l) The standards required in this section are incorporated by reference into this section with the approval of the Director of the Federal Register under 5 U.S.C. 552(a) and 1 CFR part 51. All approved material is available for inspection at the Federal Communications Commission (FCC), 445 12th St. SW, Reference Information Center, Room CY-A257, Washington, DC 20554, (202) 418-0270, and is available from the source indicated below. It is also available for inspection at the National Archives and Records Administration (NARA). For information on the availability of this material at NARA, email fedreg.legal@nara.gov or go to http://www.archives.gov/federal-register/cfr/ibr-locations.html.

(1) IEEE Standards Association (IEEE-SA), 445 Hoes Lane, Piscataway, NJ 08854-4141, (732) 981-0060, email to stds-info@ieee.org, and http://standards.ieee.org/.

(i) ANSI C63.19-2007, American National Standard Methods of Measurement of Compatibility Between Wireless Communication Devices and Hearing Aids, June 8, 2007 (2007 ANSI standard).

(ii) ANSI C63.19-2011, American National Standard Methods of Measurement of Compatibility Between Wireless Communication Devices and Hearing Aids, May 27, 2011 (2011 ANSI standard).

(iii) ANSI C63.19-2019, American National Standard Methods of Measurement of Compatibility Between Wireless Communication Devices and Hearing Aids, August 19, 2019 (2019 ANSI standard).

(2) [Reserved]

PART 68—CONNECTION OF TERMINAL EQUIPMENT TO THE TELEPHONE NETWORK

5. The authority citation for part 68 continues to read as follows:

Authority: 47 U.S.C. 154, 303, 610.

SUBPART D—Conditions for Terminal Equipment Approval

6. The authority citation for part 68, Subpart D is revised to read as follows:

Authority: 47 U.S.C. 154, 155, 303, 610.

7. Amend § 68.300 by revising paragraph (b) to read as follows:

§ 68.300 Labeling requirements.

* * * * *

(b) All registered telephones, including cordless telephones, as defined in § 15.3(j) of this chapter, manufactured in the United States (other than for export) or imported for use in the United States, that are hearing aid compatible, as defined in § 68.316, shall have the letters “HAC” permanently affixed thereto. “Permanently affixed” means that the label is etched, engraved, stamped, silkscreened, indelibly printed, or otherwise permanently marked on a permanently attached part of the equipment or on a nameplate of metal, plastic, or other material fastened to the equipment by welding, riveting, or a permanent adhesive. The label must be designed to last the expected lifetime of the equipment in the environment in which the equipment may be operated and must not be readily detachable. Telephones used with public mobile services or private radio services, and secure telephones, as defined by § 68.3, are exempt from this requirement.

[FR Doc. 2020-03149 Filed 3-5-20; 8:45 am]

BILLING CODE 6712-01-P